DEPARTMENT OF HOMELAND SECURITY

U.S. Customs and Border Protection

Agency Information Collection Activities: Guam-CNMI Visa Waiver Agreement

AGENCY: U.S. Customs and Border Protection, Department of Homeland Security.

ACTION: 60-Day Notice and request for comments; Extension of an existing collection of information: 1651-0126.

SUMMARY: As part of its continuing effort to reduce paperwork and respondent burden, U.S. Customs and Border Protection (CBP) invites the general public and other Federal agencies to comment on an information collection requirement concerning the Guam-CNMI Visa Waiver Agreement (CBP Form I-760). This request for comment is being made pursuant to the Paperwork Reduction Act of 1995 (Pub. L. 104-13).

DATES: Written comments should be received on or before April 9, 2012, to be assured of consideration.

ADDRESSES: Direct all written comments to U.S. Customs and Border Protection, Attn: Tracey Denning, Regulations and Rulings, Office of International Trade, 799 9th Street NW., 5th Floor, Washington, DC 20229-1177.

FOR FURTHER INFORMATION CONTACT: Requests for additional information should be directed to Tracey Denning, U.S. Customs and Border Protection, Regulations and Rulings, Office of International Trade, 799 9th Street NW., 5th Floor, Washington, DC 20229-1177, at (202) 325-0265.

SUPPLEMENTARY INFORMATION: CBP invites the general public and other Federal agencies to comment on proposed and/or continuing information collections pursuant to the Paperwork Reduction Act (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the CBP request for Office of Management and Budget (OMB) approval. All comments will become a matter of public record. In this document CBP is soliciting comments concerning the following information collection:

Title: Guam-CNMI Visa Waiver Agreement.

OMB Number: 1651-0126.

Form Number: CBP Form I-760.

Abstract: Carriers are responsible for ensuring that every alien transported to Guam and/or the Commonwealth of the Northern Mariana Islands (CNMI) pursuant to Public Law 110-229 under the Guam-CNMI Visa Waiver Program meets all of the eligibility criteria prior to departure to Guam and/or the CNMI. See 8 CFR 212.1(q). Carriers are liable and subject to fine, pursuant to section 273 of the Immigration and Nationality Act (INA) (8 U.S.C. 1323), for transporting to the United States any alien who does not have a valid passport and an unexpired visa, if a visa was required. Any transportation line bringing any alien to Guam and/or the CNMI under the Guam-CNMI Visa Waiver Program must enter into an agreement with CBP on Form I-760. This form is accessible at http://forms.cbp.gov/pdf/CBP_Form_i760.pdf.

Current Actions: This submission is being made to extend the expiration date with a change to the burden hours as a result of the increase in the number of estimated responses from 10 to 31. There is no change to the information collected or to CBP Form I-760.

Type of Review: Extension (with change).

Affected Public: Businesses.

Estimated Number of Respondents: 31.

Estimated Time per Respondent: 12 minutes.

Estimated Total Annual Burden Hours: 6.2.

Dated: February 2, 2012.
Tracey Denning,
Agency Clearance Officer, U.S. Customs and Border Protection.

[FR Doc. 2012-2769 Filed 2-6-12; 8:45 am]

BILLING CODE 9111-14-P